DEPARTMENT OF ENERGY

Federal Energy Regulatory Commission

Combined Notice of Filings #1

Take notice that the Commission received the following electric corporate filings:

Docket Numbers: EC12-43-000.

Applicants: El Paso Marketing Company, L.L.C., Sherpa Acquisition, LLC.

Description: Application for authorization for disposition of jurisdictional facilities of El Paso Marketing Company, L.L.C., et al.

Filed Date: 12/5/11.

Accession Number: 20111205-5186.

Comments Due: 5 p.m. ET 12/27/11

Take notice that the Commission received the following electric rate filings:

Docket Numbers: ER10-1414-001; ER11-1881-003; ER10-3166-001; ER11-1890-003; ER01-138-009; ER11-1882-003; ER10-1406-002; ER11-1883-003; ER11-1885-003; ER10-1416-002; ER11-1892-003; ER11-1886-003; ER11-1893-003; ER11-1887-003; ER11-1889-003; ER11-1894-003; ER10-1345-003; ER10-1343-003; ER10-1346-002; ER10-1348-002; ER11-2534-002.

Applicants: Burley Butte Wind Park, LLC, Cadillac Renewable Energy LLC, Camp Reed Wind Park, LLC, CPI Energy Services (US) LLC, CPIDC, Inc., Delta Person Limited Partnership, Frederickson Power L.P., Golden Valley Wind Park, LLC, Lake Cogen Ltd., ManChief Power Company LLC, Milner Dam Wind Park, LLC, Morris Cogeneration, LLC, Oregon Trail Wind Park, LLC, Pasco Cogen, Ltd., Payne's Ferry Wind Park, LLC, Pilgrim Stage Station Wind Park, LLC, Salmon Falls Wind Park, LLC, Thousand Springs Wind Park, LLC, Tuana Gulch Wind Park, LLC, Yahoo Creek Wind Park, LLC, Auburndale Power Partners, Limited Partnership.

Description: Auburndale Power Partners, L.P., et al. Notice of Non-Material Change in Status and Request for Category 1 Seller Determination.

Filed Date: 12/5/11.

Accession Number: 20111205-5187.

Comments Due: 5 p.m. ET 12/27/11.

Docket Numbers: ER12-536-000.

Applicants: Pacific Gas and Electric Company.

Description: Western's Work Performance Agreement under PG&E Rate Schedule FERC No. 228 to be effective 12/9/2011.

Filed Date: 12/5/11.

Accession Number: 20111205-5121.

Comments Due: 5 p.m. ET 12/27/11.

Docket Numbers: ER12-537-000.

Applicants: Ohio Valley Electric Corporation.

Description: Transmission Planning Process (Attachment M) Compliance Filing to be effective 9/10/2010.

Filed Date: 12/5/11.

Accession Number: 20111205-5130.

Comments Due: 5 p.m. ET 12/27/11.

Docket Numbers: ER12-538-000.

Applicants: Southern California Edison Company.

Description: LGIA Antelope Valley Solar PV2 Project—Solar Star California XX, LLC to be effective 12/6/2011.

Filed Date: 12/5/11.

Accession Number: 20111205-5132.

Comments Due: 5 p.m. ET 12/27/11.

Docket Numbers: ER12-539-000.

Applicants: CPI Energy Services (US) LLC.

Description: Notice of Non-Material Change to be effective 2/3/2012.

Filed Date: 12/5/11.

Accession Number: 20111205-5133.

Comments Due: 5 p.m. ET 12/27/11.

Docket Numbers: ER12-540-000.

Applicants: CPIDC, Inc.

Description: Notice of Non-Material Change to be effective 2/3/2012.

Filed Date: 12/5/11

Accession Number: 20111205-5137.

Comments Due: 5 p.m. ET 12/27/11.

Docket Numbers: ER12-541-000.

Applicants: Frederickson Power L.P.

Description: Notice of Non-Material Change to be effective 2/3/2012.

Filed Date: 12/5/11.

Accession Number: 20111205-5142.

Comments Due: 5 p.m. ET 12/27/11.

Docket Numbers: ER12-542-000.

Applicants: Manchief Power Company LLC.

Description: Notice of Non-Material Change to be effective 2/3/2012.

Filed Date: 12/5/11.

Accession Number: 20111205-5146.

Comments Due: 5 p.m. ET 12/27/11.

Docket Numbers: ER12-543-000.

Applicants: Ethical Electric Benefit Co.

Description: Ethical Electric Benefit Co. Market Based Rate Filing—Clone to be effective 12/6/2011.

Filed Date: 12/5/11.

Accession Number: 20111205-5150.

Comments Due: 5 p.m. ET 12/27/11.

Docket Numbers: ER12-544-000.

Applicants: Morris Cogeneration, LLC.

Description: Notice of Non-Material Change to be effective 2/3/2012.

Filed Date: 12/5/11.

Accession Number: 20111205-5151.

Comments Due: 5 p.m. ET 12/27/11.

Docket Numbers: ER12-545-000.

Applicants: Lake Cogen, Ltd.

Description: Notice of Non-Material Change to be effective 2/3/2012.

Filed Date: 12/5/11.

Accession Number: 20111205-5152.

Comments Due: 5 p.m. ET 12/27/11.

Docket Numbers: ER12-546-000.

Applicants: Pasco Cogen, Ltd.

Description: Notice of Non-Material Change to be effective 2/3/2012.

Filed Date: 12/5/11.

Accession Number: 20111205-5153.

Comments Due: 5 p.m. ET 12/27/11.

Docket Numbers: ER12-547-000.

Applicants: Auburndale Power Partners, Limited Partnership.

Description: Notice of Non-Material Change to be effective 2/3/2012.

Filed Date: 12/5/11.

Accession Number: 20111205-5154.

Comments Due: 5 p.m. ET 12/27/11.

Docket Numbers: ER12-548-000.

Applicants: CP Energy Marketing (US) Inc.

Description: Request for Category 1 Status of CP Energy Marketing (US) Inc. to be effective 11/5/2011.

Filed Date: 12/5/11.

Accession Number: 20111205-5155.

Comments Due: 5 p.m. ET 12/27/11.

Docket Numbers: ER12-549-000.

Applicants: CPI USA North Carolina LLC.

Description: Request for Category 1 Seller Status of CPI USA North Carolina LLC to be effective 11/5/2011.

Filed Date: 12/5/11

Accession Number: 20111205-5156.

Comments Due: 5 p.m. ET 12/27/11.

Docket Numbers: ER12-550-000.

Applicants: Southwest Power Pool, Inc.

Description: Order No. 719 Compliance Filing—Docket Nos. ER09-1050, ER09-748, and ER09-1192 to be effective 12/5/2011.

Filed Date: 12/5/11.

Accession Number: 20111205-5161.

Comments Due: 5 p.m. ET 12/27/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2011.
Nathaniel J. Davis, Sr.,
Deputy Secretary.

[FR Doc. 2011-31979 Filed 12-13-11; 8:45 am]

BILLING CODE 6717-01-P